SECURITIES AND EXCHANGE COMMISSION

[File No. 500-1]

American Asset Development, Inc., aVinci Media Corp., Ceragenix Pharmaceuticals, Inc., Marshall Holdings International, Inc., MedCom USA, Incorporated, and Millenium Holding Group, Inc., Order of Suspension of Trading

September 19, 2013.

It appears to the Securities and Exchange Commission that there is a lack of current and accurate information concerning the securities of American Asset Development, Inc. because it has not filed any periodic reports since the period ended December 31, 2009.

It appears to the Securities and Exchange Commission that there is a lack of current and accurate information concerning the securities of aVinci Media Corp. because it has not filed any periodic reports since the period ended September 30, 2010.

It appears to the Securities and Exchange Commission that there is a lack of current and accurate information concerning the securities of Ceragenix Pharmaceuticals, Inc. because it has not filed any periodic reports since the period ended December 31, 2009.

It appears to the Securities and Exchange Commission that there is a lack of current and accurate information concerning the securities of Marshall Holdings International, Inc. because it has not filed any periodic reports since the period ended September 30, 2008.

It appears to the Securities and Exchange Commission that there is a lack of current and accurate information concerning the securities of MedCom USA, Incorporated because it has not filed any periodic reports since the period ended December 31, 2008.

It appears to the Securities and Exchange Commission that there is a lack of current and accurate information concerning the securities of Millenium Holding Group, Inc. because it has not filed any periodic reports since the period ended December 31, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 19, 2013, through 11:59 p.m. EDT on October 2, 2013.

By the Commission.
Jill M. Peterson,
Assistant Secretary.

[FR Doc. 2013-23143 Filed 9-19-13; 4:15 pm]

BILLING CODE P